DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with April anniversary dates. In accordance with Commerce's regulations, we are initiating those administrative reviews.

DATES: Applicable June 12, 2024.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with April anniversary dates.

All deadlines for the submission of various types of information, certifications, or comments or actions by Commerce discussed below refer to the number of calendar days from the applicable starting time.

Respondent Selection

In the event that Commerce limits the number of respondents for individual examination for administrative reviews initiated pursuant to requests made for the orders identified below, Commerce intends to select respondents based on U.S. Customs and Border Protection (CBP) data for U.S. imports during the period of review (POR). We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than April 30, 2025.

| Period to be reviewed
AD Proceedings
BAHRAIN: Common Alloy Aluminum Sheet, A-525-001 | 4/1/23-3/31/24
Gulf Aluminium Rolling Mill B.S.C.
BRAZIL: Common Alloy Aluminum Sheet, A-351-854 | 4/1/23-3/31/24
CBA
CBA Itapissuma
Companhia Brasileira de Alumínio
Novelis do Brasil Ltda.
CROATIA: Common Alloy Aluminum Sheet, A-891-001 | 4/1/23-3/31/24
Impol d.o.o.
Impol TLM, d.o.o.
EGYPT: Common Alloy Aluminum Sheet, A-729-803 | 4/1/23-3/31/24
Aluminium Company of Egypt (Egyptalum)
GERMANY: Common Alloy Aluminum Sheet, A-428-849 | 4/1/23-3/31/24
Alanod GmbH & Co. KG
Constellium Singen GmbH
Novelis Deutschland GmbH
Speira GmbH
INDIA: Carbon and Alloy Steel Threaded Rod, A-533-887 | 4/1/23-3/31/24
ATC Tires Private Limited
ATC Tires AP Private Limited
Yokohama Off-Highway Tires America, Inc.
INDIA: Common Alloy Aluminum Sheet, A-533-895 | 4/1/23-3/31/24
Hindalco Industries Limited
Jindal Aluminum Limited
Virgo Aluminum Limited
INDONESIA: Common Alloy Aluminum Sheet, A-560-835 | 4/1/23-3/31/24
PT. Starmas Inti Aluminum Industry
PT. Alumindo Light Metal Industry, Tbk.
ITALY: Common Alloy Aluminum Sheet, A-475-842 | 4/1/23-3/31/24
Novelis Italia SpA
Profilglass SpA
OMAN: Common Alloy Aluminum Sheet, A-523-814 | 4/1/23-3/31/24
Oman Aluminium Rolling Company LLC
REPUBLIC OF TÜRKIYE: Common Alloy Aluminum Sheet, A-489-839 | 4/1/23-3/31/24
ASAS Aluminyum Sanayi ve Ticaret A.S.
Assan Aluminyum Sanayi ve Ticaret A.S.
Kibar Americas, Inc.
Kibar Dis Ticaret A.S.
Panda Aluminyum A.S.
PMS Metal Profil Aluminyum Sanayi ve Ticaret A.S.
TAC Metal Ticaret Anonim Sirketi
Teknik Aluminyum Sanayi A.S.
ROMANIA: Common Alloy Aluminum Sheet, A-485-809 | 4/1/23-3/31/24
Alro, SA
Vimetco Management Romania, SRL
Vimetco Group
SERBIA: Common Alloy Aluminum Sheet, A-801-001 | 4/1/23-3/31/24
Impol d.o.o
Impol Seval, A.D.
Otovici d.o.o
SLOVENIA: Common Alloy Aluminum Sheet, A-856-001 | 4/1/23-3/31/24
Impol d.o.o.
Impol FT, d. o. o.
Impol Servis and Impol 2000
SOUTH AFRICA: Common Alloy Aluminum Sheet, A-791-825 | 4/1/23-3/31/24
Hulamin Operations Proprietary Limited
SPAIN: Common Alloy Aluminum Sheet, A-469-820 | 4/1/23-3/31/24
Aludium Transformación de Productos, S.L.
Compania Valenciana de Aluminio Baux, S.L.U./Bancolor Baux, S.L.U.
TAIWAN: Common Alloy Aluminum Sheet, A-583-867 | 4/1/23-3/31/24
C. S. Aluminium Corporation
Cheng Pang Blind Industrial Corp.
Ckm Building Material Corp.
Friendship Industries Ltd.
King Da Long Enterprise Corp.
Meglobe Co., Ltd.
Meng Sin Material Co., Ltd.
Mitsubishi Corporation (Taiwan) Ltd.
Prosperity Tieh Enterprise Co., Ltd.
Ta Chen Empire Aluminium Co., Ltd.
Taiwell Aluminum Corp.
Yieh Corp. Ltd.
Yueh Cheng Enterprise Co., Ltd.
THE PEOPLE'S REPUBLIC OF CHINA: 1,1,1,2- Tetrafluoroethane (R-134A), A-570-044 | 4/1/23-3/31/24
Bestcool Inc., Ltd.
Electrochemical Factory of Zhejiang Juhua Co., Ltd
Hongkong Richmax Ltd.
Huantai Dongyue International Trade Co. Ltd
ICOOL Chemical Co., Ltd.
Jiangsu Bluestar Green Technology Co., Ltd
Jinhua Binglong Chemical Technology Co., Ltd.
Jinhua Yonghe Fluorochemical Co., Ltd.
Ningbo FTZ ICOOL Prime International
Puremann, Inc.
Shandong Dongyue Chemical Co., Ltd
Shandong Huaan New Material Co., Ltd
Sinochem Environmental Protection Chemicals (Taicang) Co., Ltd.
T.T. International Co., Ltd.
Weichang Refrigeration Equipment (Kunshan) Co., Ltd.
Weitron International Refrigeration Equipment (Kunshan) Co., Ltd.
Zhejiang Juhua Co., Ltd.
Zhejiang Morita New Materials Co., Ltd.
Zhejiang Organic Fluor-Chemistry Plant, Zhejiang Juhua Co., Ltd.
Zhejiang Quhua Fluor-Chemistry Co., Ltd.
Zhejiang Quhua Juxin Fluorochemical Industry Co., Ltd.
Zhejiang Quzhou Juxin Fluorine Chemical Co., Ltd
Zhejiang Quzhou Lianzhou Refrigerants Co., Ltd.
Zhejiang Sanmei Chemical Ind. Co., Ltd.; Jiangsu Sanmei Chemicals Co., Ltd; Fujian Qingliu Dongying Chemical Ind. Co., Ltd
Zhejiang Yonghe Refrigerant Co., Ltd.
Zhejiang Zhonglan Refrigeration Technology Co., Ltd.
Zibo Feiyuan Chemical Co., Ltd
THE PEOPLE'S REPUBLIC OF CHINA: Certain Activated Carbon, A-570-904 | 4/1/23-3/31/24
Beijing Pacific Activated Carbon Products Co., Ltd.
Bengbu Modern Environmental Co., Ltd.
Carbon Activated Tianjin Co., Ltd.
Datong Hongdi Carbon Co., Ltd.
Datong Juqiang Activated Carbon Co., Ltd.
Datong Municipal Yunguang Activated Carbon Co., Ltd.
Jilin Bright Future Chemicals Co., Ltd.
Ningxia Guanghua Cherishmet Activated Carbon Co., Ltd.
Ningxia Huahui Activated Carbon Co. Ltd.
Ningxia Huahui Environmental Technology Co., Ltd.
Ningxia Mineral & Chemical Limited
Shanxi Dapu International Trade Co., Ltd.
Shanxi DMD Corp.
Shanxi Industry Technology Trading Co., Ltd.
Shanxi Sincere Industrial Co., Ltd.
Shanxi Tianxi Purification Filter Co., Ltd.
Sinoacarbon International Trading Co., Ltd.
Tancarb Activated Carbon Co., Ltd.
Tianjin Jacobi International Trading Co., Ltd.; Jacobi Carbons AB; Jacobi Carbons Industry (Tianjin) Co., Ltd.; Jacobi Adsorbent Materials (Tianjin) Co., Ltd.⁴
Tianjin Channel Filters Co., Ltd.
Tianjin Maijin Industries Co., Ltd.
THE PEOPLE'S REPUBLIC OF CHINA: Alloy and Certain Carbon Steel Threaded Rod, A-570-104 | 4/1/23-3/31/24
Anhui Fukai Special Materials Co., Ltd.
Changzhou Changjiang Welding Materials Co., Ltd.
Cungang Mold Fittings Co., Ltd.
Guangzhou Changfeng Steel Co., Ltd.
Hangzhou Wenqi Machinery Co., Ltd.
Hunan Qilu Industrial Co., LTD.
Jiangsu Maxi Metal Co., Ltd.
Jiaxing Uni Hardware Co., Ltd.
Ningbo Dongxin High-Strength Nut Co., Ltd.
Ningbo Ningding Imp. & Exp.
Ningbo Zhenghai Yongding Fastener Co., Ltd.
Ningbo Zhongjiang High Strength Bolts Co., Ltd.
Shandong Quantong Metal Products Co., Ltd.
Shandong Yute Metal Products Co., Ltd.
Shandong Zhuyou Metal Products Co., Ltd.
Shenzhen In-sail Precision Parts Co., Ltd.
Suzhou Bo Zuan Jinggong Technology Co., Ltd.
Wuxi ShiLong Steel Co., Ltd.
Xinyifeng (Shandong) Metal Materials Co., Ltd.
THE PEOPLE'S REPUBLIC OF CHINA: Certain Aluminum Foil A-570-053 | 4/1/23-3/31/24
Anhui Zhongji Battery Foil Sci&Tech Co., Ltd.
Dingheng New Materials Co., Ltd.
Dingsheng Aluminium Industries (Hong Kong) Trading Co., Limited
Dong-IL Aluminium Co., Ltd.
Dongwon Systems Corp.
Eastern Valley Co., LTD.
Gränges Aluminum (Shanghai) Co., Ltd.
Hangzhou Dingsheng Import and Export Co., Ltd.
Hangzhou Dingsheng Import&Export Co., Ltd.
Hangzhou Five Star Aluminium Co., Ltd.
Hangzhou Teemful Aluminium Co., Ltd.
Inner Mongolia Liansheng New Energy Material Co., Ltd.
Inner Mongolia Xinxing New Energy Material Co., Ltd.
Jiangsu Dingsheng New Materials Joint-Stock Co., Ltd.
Jiangsu Huafeng Aluminium Industry Co., Ltd.
Jiangsu Zhongji Lamination Materials Co., (HK) Limited
Jiangsu Zhongji Lamination Materials Co., Ltd.
Korea Aluminium Co., LTD.
Lotte Aluminium Co., Ltd.
Sama Aluminium Co Ltd
Shanghai Shenhuo Aluminium Foil Co., Ltd.
Shanghai Shenyan Packaging Materials Co., Ltd.
Thai Ding Li New Materials Co., Ltd.
Xiamen Xiashun Aluminum Foil Co., Ltd.
THE PEOPLE'S REPUBLIC OF CHINA: Certain Mobile Access Equipment and Subassemblies Thereof, A-570-139 | 4/1/23-3/31/24
Hunan Sinoboom Intelligent Equipment Co., Ltd.
Oshkosh JLG (Tianjin) Equipment Technology Co., Ltd.
Terex (Changzhou) Machinery Co., Ltd.
Xuzhou Construction Machinery Group Imp. & Exp. Co., Ltd.
Zhejiang Dingli Machinery Co., Ltd.
THE PEOPLE'S REPUBLIC OF CHINA: Stainless Steel Sheet and Strip, A-570-042 | 4/1/23-3/31/24
Ahonest Changjiang Stainless Co., Ltd.
Airsys Refrigeration Engineering
Angang Guangzhou Stainless Steel Corporation (LISCO)
Angang Hanyang Stainless Steel Corp. (LISCO)
Anping Yuanjing Metal Products Co., Ltd.
Aofeng Metal Material Co., Ltd.
Apex Industries Corporation
Asia Metal Limited
Asia Royal Construction Ltd.
Asia Royal Manufacture Ltd.
Backer Springfield Dongguan Co., Ltd.
Ball Products Global Ltd.
Baofeng Xianlong Stainless Steel (Baofeng Steel Group Co.)
Baojing Steel Ltd.
Baosteel Desheng Stainless Steel Co., Ltd.
Baosteel Stainless Steel Co., Ltd.
Baotou Huayong Stainless Steel Co., Ltd.
Behpex Technology Co., Ltd.
Beihai Chengde Ferronickel Stainless Steel
Beijing Catic Industry Limited
Beijing Dayang Metal Industry Co.
Beijing Hengsheng Tongda Stainless Steel
Beijing Jingnanfang Decoration Engineering Co., Ltd.
Beijing North Space Building Techno
Beijing Wintec Machinery Co., Ltd.
Benxi Iron and Steel
Biaowu Industrial Co., Ltd.
Cangzhou Jinyi Hardware Products
Casa China Ltd. Shenzhen
Centeno International Limited
Chain Chon Metal (Foshan)
Chain Chon Metal (Kunshan)
Changhai Stainless Steel
Changshu Electric Heating Alloy
Changshu Jianan Frp Products Co., Ltd.
Changshu Tongrun Mechanical
Changzhou Best Gbm Motors Co., Ltd.
Changzhou General Import and Export
Changzhou Stomax Co., Ltd.
Changzhou Taiye Sensing Technology Co., Ltd.
China Bekaert Steel Cord Co., Ltd.
Civmats Company Limited
Cixi Aiflon Sealing Materials Co., Ltd.
Compart Precision Co.
Contemporary Amperex Technology Co.
Dalian Yirui Import and Export Agent Co., Ltd.
Daming International Import and Export Co., Ltd.
Dongbei Special Steel Group Co., Ltd.
Dongguan Haiyi Inc Co., Ltd.
Dongguan Safe Electronics Co., Ltd.
Double Stone Steel
E.G.O Components (China) Co., Ltd.
East Ying Co., Ltd.
Egoee Stainless Steel Products Ltd.
Eqoee Stainless Steel Products Ltd.
Etco (China) International Trading Co., Ltd.
Eternal Tsingshan Group Limited
Everlasting Enterprise Ltd.
Expeditors O B Hangzhou Greatstar Industrial Co., Ltd.
FHY Corporation
Forsueng Machinery Laian Co., Ltd.
Forward Filter Manufacturer Co., Ltd.
Foshan Ferosteel Co., Ltd.
Foshan Foreign Economic Enterprise
Foshan Hermes Steel Co., Ltd.
Foshan Hongfeng Co., Ltd.
Foshan Jinfeifan Stainless Steel Co.
Foshan Sewaly Steel Co., Ltd.
Foshan Topson Stainless Steel Co.
Foshan Vinmay Stainless Steel Technology Co., Ltd.
Fugang Group Fujian Fuxin Special Steel Co., Ltd.
Fujian Kaixi Stainless Steel
Fujian Wuhang STS Products Co., Ltd.
Gangzhan Steel Developing Co., Ltd.
Ganzhou Shenke Shangpin Technology
Globe Express Services Co., Ltd.
Golden Fund International Trading Co.
Gri Medical Electronic Technology
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangzhou Broadya New Materials Technology Co., Ltd.
Guangzhou Eversunny Trading Co., Ltd.
Guangzhou Five Six Technology
Guangzhou Xiaode New Materials Tech
Guangzhou Zhuoxing Electronics
Haimen Senda Decoration Material Co.
Hainan Jinpan Smart Technology Co.
Haixing Industrial Group Co., Ltd.
Hangzhou Caiba Technology Co., Ltd.
Hangzhou Clean Pco Technology Co.
Hangzhou Haiming Iron And Steel Co.
Hanyang Stainless Steel Co. (LISCO)
Hanzghou Fuyang Bona Water Purifica
Headwin Logistics Co., Ltd.
Hebei Huatong Wires & Cables Group Co.
Hebei Iron & Steel
Hehong Materials Co., Ltd.
Henan Tianhong Metal (Subsidiary of Foshan Mellow Stainless Steel Company)
Henan Xinjinhui Stainless Steel Co., Ltd. (Jinhui Group)
Henan Xuyuan Stainless Steel Co
Hengshui Boedon Industech Co., Ltd.
Hengshui Heli Wire Cloth Co., Ltd.
Hong Kong Hemei Steel Co., Ltd.
Huadi Steel Group Co., Ltd.
Hubei Gucheng Donghua Machinery
Huehoco China Composite Materials
Hunan Grace Door Industry Co., Ltd.
Hunan Hongrui Stainless Steel Pipe
Ideal Products of Dongguan Ltd.
Irestal Shanghai Stainless Pipe (ISSP)
Jaway Metal Co., Ltd.
Jd Metal Industrial Shenzhen Co.
Jiangdu Ao Jian Sports Apparatus Factory
Jiangsu Aucksun Metal Technology Co.
Jiangsu Chengpu Metal Products Co., (Cn)
Jiangsu Daming Metal Products Co., Ltd.
Jiangsu Jihongxin Stainless Steel Co., Ltd.
Jiangsu Sheye Metal Co., Ltd.
Jiangsu Tisco Tpco Metal Products Co., Ltd.
Jiaxing Winner Import and Export Co., Ltd.
Jiaxing Zhongda Import and Export Co., Ltd.
Jiaxing Zhuoguan Technologies Co.
Jieyang Baowei Stainless Steel Co., Ltd
Jinan Huachen Industrial Co., Ltd.
Jinan Zunkai Materials Co., Ltd.
Jinyun Xintongmao
Jiuquan Iron & Steel (JISCO)
Joyea Co., Ltd.
Key Success International
Kitlalong Kitchen Equipment Co., Ltd.
Kuehne & Nagel, Ltd. (Ningbo)
Kunshan Eson Precision Engineering
La Qin (Hong Kong) Co., Ltd.
Lianzhong Stainless Steel Corp. (LISCO)
Liuzhou Rimd Machinery Company
Maanshan Sungood Machinery Equipment Co., Ltd.
Marubeni Itochu Steel Shanghai Co. Ltd.
Maxwide Logistics Inc.
Minmetals Steel Co., Ltd.
Nanhi Tengshao Metal Manufacturing Co.
NB (Ningbo) Rilson Export & Import Corp.
Ningbo Baobaolong Technology Co.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd. No.
Ningbo Dazhi Machinery Company
Ningbo Economic and Technological Development Zone (Beilun Xiapu)
Ningbo F Y Auto Parts Co., Ltd.
Ningbo Group Demgc Magnetics Co., Ltd.
Ningbo Hog Slat Trading Co., Ltd.
Ningbo Hounuo Plastic Co., Ltd.
Ningbo New Hailong Import & Export Co.
Ningbo Ningshing Special Steel Imp And Exp Co., Ltd.
Ningbo Oem Industry Manufacturer Ltd.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Vichnet Technology Co., Ltd.
Ningbo Yaoyi International Trading Co., Ltd.
Norin Development Co., Ltd.
Onetouch Business Service, Ltd.
Ppm Shenzhen Company Limited
Qianyuan Stainless Steel
Qingdao Haixinda Stainless Steel Co.
Qingdao-Pohang Stainless Steel (QPSS)
Qingdao Powtech Electronics Co., Ltd.
Qingdao Rising Sun International Trading Co., Ltd.
Qingdao Sincerely Steel
Quyang Smart Garden Statuary Co., Ltd.
Rihong Stainless Co., Ltd.
Ruitian Steel
Samsung Precision Stainless Steel (Pinghu) Co., Ltd.
Sejung Sea & Air Co., Ltd.
Shaanxi Chengxin Yongsheng Metal Co., Ltd.
Shandong Donglin New Materials Co., Ltd.
Shandong Future Metal Manufacturing Co., Ltd.
Shandong Hengen New Material Co., Ltd.
Shandong Hengxin Aluminium Co., Ltd.
Shandong Huaye Stainless Steel Group Co., Ltd.
Shandong Kehui Laser Equipment Co., Ltd.
Shandong Mengyin Huaran Imp and Exp Co., Ltd.
Shandong Mingwei Stainless Steel Products Co., Ltd.
Shandong Shunhe Metal Products Co., Ltd.
Shandong Xinliangxin Metal Co., Ltd.
Shandong Xinshang Metal Products
Shandong Yongshun Metal
Shanghai Def Electronics Material Co., Ltd.
Shanghai Dongjing Import & Export Co.
Shanghai Fengye Industry Co., Ltd.
Shanghai Ganglian E-Commerce Holdings Co., Ltd.
Shanghai Krupp Stainless (SKS)
Shanghai Lumex Systems Ltd.
Shanghai Metal Corporation
Shanghai Minmetals Development Ltd.
Shanghai Novotek Machinery Co., Ltd.
Shanghai Prime Steel Corporation
Shanghai Recky International
Shanghai Remaco Industrial Co., Ltd.
Shanghai Roco Magnetics Co., Ltd.
Shanghai Stal Precision Stainless
Shanghai Tankli Alloy Material Co., Ltd.
Shanghai Xie Chang Huo Ning Industrial Co., Ltd.
Shanghai Yanyu Dianzi Keji Youxiang
Shanghai Pacific Technology Co., Ltd.
Shanxi Taigang Stainless Steel Co., Ltd. (TISCO)
Shaoxing Andrew Metal Manufactured Co., Ltd.
Shaoxing Yuzhihang Import & Export Trade Co., Ltd.
Shenzhen Brilliant Sign Co., Ltd.
Shenzhen Finesun Precision
Shenzhen Fulian Fugui Precision Industry Co., Ltd.
Shenzhen Komay Electronic Commerce
Shenzhen Qianhai Ilife
Shenzhen Ruizhirui Trading Co., Ltd.
Shenzhen Weishidai Trading Co., Ltd.
Shenzhen Wide International Trade Co., Ltd.
Shenzhen Y.T.X. Metal Co., Ltd.
Shenzhen Zizen Precision Co., Ltd.
Sichuan Liuhe Special Metal Materials
Sichuan Southwest Stainless Steel
Sichuan Tianhong Stainless Steel
Sino Base Metal Co., Ltd.
Sino East Metal Co., Ltd.
Sunson Industry Group Co., Ltd.
Suntec Industries Company Limited
Sussman Modular House (Wuxi) Co., Ltd.
Suzhou Xiangyuan New Materials Co.
Suzhou Xinchen Precision Industrial Materials Co., Ltd.
Suzhou Xingwen Electronic Commerce
Taiyuan Accu Point Technology, Co. Ltd.
Taiyuan Iron & Steel (TISCO)
Taiyuan Ridetaixing Precision Stainless Steel Incorporated Co., Ltd.
Taizhou Durable Hardware Co., Ltd
Taizhou Zhongda Metal Technology Co.
Tiancheng Stainless Steel Products
Tianjin Chixing International
Tianjin Fulida Supply Co., Ltd.
Tianjin Hongji Stainless Steel Products Co. Ltd.
Tianjin Jiuyu Trade Co., Ltd.
Tianjin New Asia Prosperity
Tianjin Royal Steel Co., Ltd.
Tianjin Taigang Daming Metal Product Co., Ltd.
Tianjin Teda Ganghua Trade Co., Ltd.
Tianjin Tianchengjida Import & Export Trade Co., Ltd.
Tianjin Tiangang Weiye Steel Tube Co.
Tianjin Tianguan Yuantong Stainless Steel
Tiashan Steel
TISCO Stainless Steel (HK) Ltd.
Top Honest Stainless Steel Co., Ltd.
TPCO Yuantong Stainless Steel Ware
Tsingshan Qingyuan
Vigor Stainless Steel Limited
Wan Chang Metal And Mold Co., Ltd.
Wenzhou Kosun Fluid Equipment Co., Ltd.
Wenzhou Zhenda Packing Machine Co.
World Express Freight Co., Ltd.
Wuxi Baochang Metal Products Co., Ltd.
Wuxi Bofu Steel Co., Ltd.
Wuxi City Ge Ming Sheng Steel Trading Co., Ltd.
Wuxi Dayun Stainless Steel Co., Ltd.
Wuxi Fangzhu Precision Materials Co.
Wuxi Grand Tang Metal Co., Ltd.
Wuxi Haoguang Special Co., Ltd.
Wuxi Huamei Science And Technology Co., Ltd.
Wuxi Jiaborui Special Steel Co.
Wuxi Jinyate Steel Co., Ltd.
Wuxi Joyray International Corp.
Wuxi Kaiyi Science And Technology Co.
Wuxi Maoding Metal Products Co., Ltd.
Wuxi Qinmel Technology Co., Ltd.
Wuxi Shuoyang Stainless Steel Co., Ltd.
Xiamen Lizhou Hardware Spring Co., Ltd.
Xinwen Mining
Yantai Putai New Material Technology Co., Ltd.
Yichang Baoneng Trading Co.
Yieh Corp. Ltd.
Yingjin Shanghai Co., Ltd.
Yongjin Enterprise Management Co., Ltd.
Yongjin Metal Technology
Yongkang Shengbo Fitness Equipment Factory
Yuyao Purenovo Stainless Steel Co., Ltd.
Zhangjiagang Pohang Stainless Steel Co., Ltd. (ZPSS)
Zhejiang Aero & Biome Material Comp
Zhejiang Baohong Stainless Steel Co., Ltd.
Zhejiang Baosco New Materials Corp
Zhejiang Ele Mfg Co., Ltd.
Zhejiang Huashun Metals Co., Ltd.
Zhejiang Jaguar Import & Export Co., Ltd.
Zhejiang Jiuli Hi Tech Metal Co., Ltd.
Zhejiang New Vision Import & Export
Zhejiang Trilink Huihuang Co., Ltd.
Zhejiang Yongyin Metal Tech Co.
Zhengzhou Mingtai Industry Co., Ltd.
Zhenjiang Huaxin Import & Export
Zhenshi Group Eastern Special Steel Co., Ltd
Zhongxin Metal Mold Technology Co.
Zun Hua City Transcend Ti-Gold
THE PEOPLE'S REPUBLIC OF CHINA: Wooden Cabinets and Vanities and Components Thereof, A-570-106 | 4/1/23-3/31/24
Anhui Swanch Cabinetry Co., Ltd.
Anhui Xinyuanda Cupboard Co., Ltd
Changyi Zhengheng Woodwork Co., Ltd
Dalian Hualing Wood Co., Ltd.
Dalian Meisen Woodworking Co., Ltd
Deqing Meisheng Import and Export Co., Ltd.
Dongguan Ri Sheng Home Furnishing Articles Co., Ltd.
Fujian Dushi Wooden Industry Co., Ltd.
Fujian Leifeng Cabinetry Co., Ltd
Fujian Senyi Kitchen Cabinet Co., Ltd.
Fuzhou CBM Import & Export Co., Ltd
Fuzhou Hauster Kitchen Cabinet Manufacturing Co., Ltd.
Fuzhou Pyrashine Trading Co., Ltd.
Goldenhome Living Co., Ltd.
Guangzhou Nuolande Import and Export Co., Ltd.
Hong Kong Jian Cheng Trading Co., Ltd.
Honsoar New Building Material Co., Ltd
Jiang Su Rongxin Cabinets Ltd
Jiang Su Rongxin Import and Export Co., Ltd.
Jiang Su Rongxin Wood Industry Co., Ltd
Jiangsu Beichen Wood Co., Ltd
Jiangsu Sunwell Cabinetry Co., Ltd
Jiangsu Weisen Houseware Co., Ltd
Jiangsu Xiangsheng Bedtime Furniture Co., Ltd
KM Cabinetry Co., Ltd.
Kunshan Baiyulan Furniture Co., Ltd
Linshu Meibang Furniture Co., Ltd
Linyi Bomei Furniture Co., Ltd
Linyi Kaipu Furniture Co., Ltd.
Morewood Cabinetry Co., Ltd
Nantong Aershin Cabinets Co., Ltd
Nanjing Kaylang Co., Ltd.
Oppein Home Group Inc.
Qingdao Haiyan Drouot Household Co., Ltd.
Qingdao Shousheng Industry Co., Ltd
Quanzhou Ample Furnishings Co., Ltd.
Qufu Xinyu Furniture Co., Ltd
Senke Manufacturing Company
Shandong Jinhua Wood Co., Ltd.
Shandong Longsen Woods Co., Ltd
Shanghai Beautystar Cabinetry Co., Ltd
Shanghai Zifeng Industries Development Co., Ltd.
Shanghai Zifeng International Trading Co., Ltd
Sheen Lead International Trading (Shanghai) Co., Ltd
Shenzhen Pengchengzhirong Trade Co., Ltd.
Shouguang Fushi Wood Co., Ltd
Suzhou Siemo Wood Import & Export Co., Ltd.
Taishan Hongxiang Trading Co., Ltd
Taishan Oversea Trading Company Ltd
Taizhou Overseas Int'l Ltd.
Tech Forest Cabinetry Co., Ltd
The Ancientree Cabinet Co., Ltd
Weifang Fuxing Wood Co., Ltd
Weifang Yuanlin Woodenware Co., Ltd
Weihai Jarlin Cabinetry Manufacture Co., Ltd
Weisen Houseware Co., Ltd.
Xiamen Adler Cabinetry Co., Ltd
Xiamen Golden Huanan Imp. & Exp. Co., Ltd
Xiamen Got Cheer Co., Ltd.
Xuzhou Yihe Wood Co., Ltd
Yichun Dongmeng Wood Co., Ltd
Yindu Kitchen Equipment Co., Ltd.
Yixing Pengjia Cabinetry Co. Ltd
Yixing Pengjia Technology Co., Ltd
Zaozhuang New Sharp Import & Export Trading Co., Ltd.
ZBOM Cabinets Co., Ltd.
Zhangzhou OCA Furniture Co., Ltd
Zhongshan KM Cabinetry Co., Ltd
Zhongshan NU Furniture Co., Ltd.
Zhoushan For-strong Wood Co., Ltd
CVD Proceedings
BAHRAIN: Common Alloy Aluminum Sheet, C-525-002 | 1/1/23-12/31/23
Gulf Aluminium Rolling Mill B.S.C.
INDIA: Common Alloy Aluminum Sheet, C-533-896 | 1/1/23-12/31/23
Hindalco Industries Limited
Jindal Aluminum Limited
Manaksia Aluminium Company Limited
Virgo Aluminum Limited
MOROCCO: Phosphate Fertilizers, C-714-001 | 1/1/23-12/31/23
OCP S.A.
REPUBLIC OF TÜRKIYE: Common Alloy Aluminum Sheet, C-489-840 | 1/1/23-12/31/23
ASAS Aluminyum Sanayi ve Ticaret A.S.
Assan Aluminyum Sanayi ve Ticaret A.S.; Kibar Holding A.S.⁵
P.M.S. Metal Profil Aluminyum Sanayi Ve Ticaret A.S.
Kibar Americas, Inc.
Kibar Dis Ticaret A.S.
Teknik Aluminyum Sanayi A.S.; TAC Metal Ticaret A.S.⁶
THE PEOPLE'S REPUBLIC OF CHINA: Certain Aluminum Foil, C-570-054 | 1/1/23-12/31/23
Alcha International Holdings Limited
Anhui Maximum Aluminium Industries Co., Ltd.
Anhui Zhongji Battery Foil Sci & Tech Co., Ltd.
Baotou Alcha Aluminum Co., Ltd.
Dingheng New Materials Co., Ltd.
Dingsheng Aluminium Industries (Hong Kong) Trading Co., Ltd
Gränges Aluminum (Shanghai) Co., Ltd.
Guangxi Baise Xinghe Aluminum Industry Co., Ltd
Hangzhou DingCheng Aluminum Co., Ltd.
Hangzhou Dingsheng Import & Export Co., Ltd.
Hangzhou Dingsheng Industrial Group Co. Ltd.
Hangzhou Five Star Aluminium Co., Ltd.
Hangzhou Teemful Aluminium Co., Ltd.Hunan Suntown Marketing Limited
Inner Mongolia Liansheng New Energy Material Co., Ltd.
Inner Mongolia Liansheng New Energy Material Joint-Stock Co., Ltd.
Inner Mongolia Xinxing New Material Co., Ltd.
Inner Mongolia Xinxing New Energy Material Co., Ltd.
Jiangsu Dingsheng New Materials Joint-Stock Co., Ltd.
Jiangsu Huafeng Aluminium Industry Co., Ltd.
Jiangsu Zhongji Lamination Materials Co., (HK) Limited
Jiangsu Zhongji Lamination Materials Co., Ltd.
Jiangsu Zhongji Lamination Materials Stock Co., Ltd.
Jiangyin Dolphin Pack Ltd. Co.
Luoyang Longding Aluminium Industries Co., Ltd.
Prosvic Sales, Inc.
Shandong Yuanrui Metal Material Co., Ltd.
Shanghai Huafon Aluminium Corporation
Shanghai Shenhuo Aluminium Foil Co., Ltd.
Shanghai Shenyan Packaging Materials Co., Ltd.
Shantou Wanshun New Material Group Co., Ltd.
Shantou Wanshun Package Material Stock Co., Ltd.
SNTO International Trade Limited
Suntown Technology Group Corporation Limited
Thai Ding Li New Materials Co., Ltd.
Walson (HK) Trading Co., Limited
Xiamen Xiashun Aluminum Foil Co., Ltd.
Yantai Donghai Aluminum Co., Ltd.
Yantai Jintai International Trade Co., Ltd.
Yinbang Clad Material Co., Ltd.
Zhejiang Zhongjin Aluminum Industry Co., Ltd.
THE PEOPLE'S REPUBLIC OF CHINA: Carbon and Alloy Steel Threaded Rod, C-570-105 | 1/1/23-12/31/23
Anhui Fukai Special Materials Co., Ltd.
Changzhou Changjiang Welding Materials Co., Ltd.
Cungang Mold Fittings Co., Ltd.
Guangzhou Changfeng Steel Co., Ltd.
Hangzhou Wenqi Machinery Co., Ltd.
Hunan Qilu Industrial Co., LTD.
Jiangsu Maxi Metal Co., Ltd.
Jiaxing Uni Hardware Co., Ltd.
Ningbo Dingtuo Imp. & Exp. Co., Ltd.
Ningbo Dongxin High-Strength Nut Co., Ltd.
Ningbo Jinding Fastening Piece Co., Ltd.
Ningbo Ningding Imp. & Exp.
Ningbo Zhenghai Yongding Fastener Co., Ltd.
Ningbo Zhongjiang High Strength Bolts Co., Ltd.
Shandong Quantong Metal Products Co., Ltd.
Shandong Yute Metal Products Co., Ltd.
Shandong Zhuyou Metal Products Co., Ltd.
Shenzhen In-sail Precision Parts Co., Ltd.
Suzhou Bo Zuan Jinggong Technology Co., Ltd.
Wuxi ShiLong Steel Co., Ltd.
Xinyifeng (Shandong) Metal Materials Co., Ltd.
THE PEOPLE'S REPUBLIC OF CHINA: Stainless Steel Sheet and Strip, C-570-043 | 1/1/23-12/31/23
Ahonest Changjiang Stainless Co., Ltd.
Airsys Refrigeration Engineering
Angang Guangzhou Stainless Steel Corporation (LISCO)
Angang Hanyang Stainless Steel Corp. (LISCO)
Anping Yuanjing Metal Products Co., Ltd.
Aofeng Metal Material Co., Ltd.
Apex Industries Corporation
Asia Metal Limited.
Asia Royal Construction Ltd.
Asia Royal Manufacture Ltd.
Backer Springfield Dongguan Co., Ltd.
Ball Products Global Ltd.
Baofeng Xianlong Stainless Steel (Baofeng Steel Group Co.)
Baojing Steel Ltd.
Baosteel Desheng Stainless Steel Co., Ltd.
Baosteel Stainless Steel Co., Ltd.
Baotou Huayong Stainless Steel Co., Ltd.
Behpex Technology Co., Ltd.
Beihai Chengde Ferronickel Stainless Steel
Beijing Catic Industry Limited
Beijing Dayang Metal Industry Co.
Beijing Hengsheng Tongda Stainless Steel
Beijing Jingnanfang Decoration Engineering Co., Ltd.
Beijing North Space Building Techno
Beijing Wintec Machinery Co., Ltd.
Benxi Iron and Steel
Biaowu Industrial Co., Ltd.
Cangzhou Jinyi Hardware Products
Casa China Ltd. Shenzhen
Centeno International Limited
Chain Chon Metal (Foshan)
Chain Chon Metal (Kunshan)
Changhai Stainless Steel
Changshu Electric Heating Alloy
Changshu Jianan Frp Products Co., Ltd.
Changshu Tongrun Mechanical
Changzhou Best Gbm Motors Co., Ltd.
Changzhou General Import and Export
Changzhou Stomax Co., Ltd.
Changzhou Taiye Sensing Technology Co., Ltd.
China Bekaert Steel Cord Co., Ltd.
Civmats Company Limited
Cixi Aiflon Sealing Materials Co., Ltd.
Compart Precision Co.
Contemporary Amperex Technology Co.
Dalian Yirui Import and Export Agent Co., Ltd.
Daming International Import and Export Co., Ltd.
Dongbei Special Steel Group Co., Ltd.
Dongguan Haiyi Inc Co., Ltd.
Dongguan Safe Electronics Co., Ltd.
Double Stone Steel
E.G.O Components (China) Co., Ltd.
East Ying Co., Ltd.
Egoee Stainless Steel Products Ltd.
Eqoee Stainless Steel Products Ltd.
Etco (China) International Trading Co., Ltd.
Eternal Tsingshan Group Limited
Everlasting Enterprise Ltd.
Expeditors O B Hangzhou Greatstar Industrial Co., Ltd.
FHY Corporation
Forsueng Machinery Laian Co., Ltd.
Forward Filter Manufacturer Co., Ltd.
Foshan Ferosteel Co., Ltd.
Foshan Foreign Economic Enterprise
Foshan Hermes Steel Co., Ltd.
Foshan Hongfeng Co., Ltd.
Foshan Jinfeifan Stainless Steel Co.
Foshan Sewaly Steel Co., Ltd.
Foshan Topson Stainless Steel Co.
Foshan Vinmay Stainless Steel Technology Co., Ltd.
Fugang Group
Fujian Fuxin Special Steel Co., Ltd.
Fujian Kaixi Stainless Steel
Fujian Wuhang STS Products Co., Ltd.
Gangzhan Steel Developing Co., Ltd.
Ganzhou Shenke Shangpin Technology
Globe Express Services Co., Ltd.
Golden Fund International Trading Co.
Gri Medical Electronic Technology
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangzhou Broadya New Materials Technology Co., Ltd.
Guangzhou Eversunny Trading Co., Ltd.
Guangzhou Five Six Technology
Guangzhou Xiaode New Materials Tech
Guangzhou Zhuoxing Electronics
Haimen Senda Decoration Material Co.
Hainan Jinpan Smart Technology Co.
Haixing Industrial Group Co., Ltd.
Hangzhou Caiba Technology Co., Ltd.
Hangzhou Clean Pco Technology Co.
Hangzhou Haiming Iron And Steel Co.
Hanyang Stainless Steel Co. (LISCO)
Hanzghou Fuyang Bona Water Purifica
Headwin Logistics Co., Ltd.
Hebei Huatong Wires & Cables Group Co.
Hebei Iron & Steel
Hehong Materials Co., Ltd.
Henan Tianhong Metal (Subsidiary of Foshan Mellow Stainless Steel Company)
Henan Xinjinhui Stainless Steel Co., Ltd. (Jinhui Group)
Henan Xuyuan Stainless Steel Co
Hengshui Boedon Industech Co., Ltd.
Hengshui Heli Wire Cloth Co., Ltd.
Hong Kong Hemei Steel Co., Ltd.
Huadi Steel Group Co., Ltd.
Hubei Gucheng Donghua Machinery
Huehoco China Composite Materials
Hunan Grace Door Industry Co., Ltd.
Hunan Hongrui Stainless Steel Pipe
Ideal Products of Dongguan Ltd.
Irestal Shanghai Stainless Pipe (ISSP)
Jaway Metal Co., Ltd.
Jd Metal Industrial Shenzhen Co.
Jiangdu Ao Jian Sports Apparatus Factory
Jiangsu Aucksun Metal Technology Co.
Jiangsu Chengpu Metal Products Co., (Cn)
Jiangsu Daming Metal Products Co., Ltd.
Jiangsu Jihongxin Stainless Steel Co., Ltd.
Jiangsu Sheye Metal Co., Ltd.
Jiangsu Tisco Tpco Metal Products Co., Ltd.
Jiaxing Winner Import and Export Co., Ltd.
Jiaxing Zhongda Import and Export Co., Ltd.
Jiaxing Zhuoguan Technologies Co.
Jieyang Baowei Stainless Steel Co., Ltd
Jinan Huachen Industrial Co., Ltd.
Jinan Zunkai Materials Co., Ltd.
Jinyun Xintongmao
Jiuquan Iron & Steel (JISCO)
Joyea Co., Ltd.
Key Success International
Kitlalong Kitchen Equipment Co., Ltd.
Kuehne & Nagel, Ltd. (Ningbo)
Kunshan Eson Precision Engineering
La Qin (Hong Kong) Co., Ltd.
Lianzhong Stainless Steel Corp. (LISCO)
Liuzhou Rimd Machinery Company
Maanshan Sungood Machinery Equipment Co., Ltd.
Marubeni Itochu Steel Shanghai Co. Ltd.
Maxwide Logistics Inc.
Minmetals Steel Co., Ltd.
Nanhi Tengshao Metal Manufacturing Co.
NB (Ningbo) Rilson Export & Import Corp.
Ningbo Baobaolong Technology Co.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd. No.
Ningbo Dazhi Machinery Company
Ningbo Economic and Technological Development Zone (Beilun Xiapu)
Ningbo F Y Auto Parts Co., Ltd.
Ningbo Group Demgc Magnetics Co., Ltd.
Ningbo Hog Slat Trading Co., Ltd.
Ningbo Hounuo Plastic Co., Ltd.
Ningbo New Hailong Import & Export Co.
Ningbo Ningshing Special Steel Imp And Exp Co., Ltd.
Ningbo Oem Industry Manufacturer Ltd.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Vichnet Technology Co., Ltd.
Ningbo Yaoyi International Trading Co., Ltd.
Norin Development Co., Ltd.
Onetouch Business Service, Ltd.
Ppm Shenzhen Company Limited
Qianyuan Stainless Steel
Qingdao Haixinda Stainless Steel Co.
Qingdao-Pohang Stainless Steel (QPSS)
Qingdao Powtech Electronics Co., Ltd.
Qingdao Rising Sun International Trading Co., Ltd.
Qingdao Sincerely Steel
Quyang Smart Garden Statuary Co., Ltd.
Rihong Stainless Co., Ltd.
Ruitian Steel
Samsung Precision Stainless Steel (Pinghu) Co., Ltd.
Sejung Sea & Air Co., Ltd.
Shaanxi Chengxin Yongsheng Metal Co., Ltd.
Shandong Donglin New Materials Co., Ltd.
Shandong Future Metal Manufacturing Co., Ltd.
Shandong Hengen New Material Co., Ltd.
Shandong Hengxin Aluminium Co., Ltd.
Shandong Huaye Stainless Steel Group Co., Ltd.
Shandong Kehui Laser Equipment Co., Ltd.
Shandong Mengyin Huaran Imp and Exp Co., Ltd.
Shandong Mingwei Stainless Steel Products Co., Ltd.
Shandong Shunhe Metal Products Co., Ltd.
Shandong Xinliangxin Metal Co., Ltd.
Shandong Xinshang Metal Products
Shandong Yongshun Metal
Shanghai Def Electronics Material Co., Ltd.
Shanghai Dongjing Import & Export Co.
Shanghai Fengye Industry Co., Ltd.
Shanghai Ganglian E-Commerce Holdings Co., Ltd.
Shanghai Krupp Stainless (SKS)
Shanghai Lumex Systems Ltd.
Shanghai Metal Corporation
Shanghai Minmetals Development Ltd.
Shanghai Novotek Machinery Co., Ltd.
Shanghai Prime Steel Corporation
Shanghai Recky International
Shanghai Remaco Industrial Co., Ltd.
Shanghai Roco Magnetics Co., Ltd.
Shanghai Stal Precision Stainless
Shanghai Tankli Alloy Material Co., Ltd.
Shanghai Xie Chang Huo Ning Industrial Co., Ltd.
Shanghai Yanyu Dianzi Keji Youxiang
Shanghai Pacific Technology Co., Ltd.
Shanxi Taigang Stainless Steel Co., Ltd. (TISCO)
Shaoxing Andrew Metal Manufactured Co., Ltd.
Shaoxing Yuzhihang Import & Export Trade Co., Ltd.
Shenzhen Brilliant Sign Co., Ltd.
Shenzhen Finesun Precision
Shenzhen Fulian Fugui Precision Industry Co., Ltd.
Shenzhen Komay Electronic Commerce
Shenzhen Qianhai Ilife
Shenzhen Ruizhirui Trading Co., Ltd.
Shenzhen Weishidai Trading Co., Ltd.
Shenzhen Wide International Trade Co., Ltd.
Shenzhen Y.T.X. Metal Co., Ltd.
Shenzhen Zizen Precision Co., Ltd.
Sichuan Liuhe Special Metal Materials
Sichuan Southwest Stainless Steel
Sichuan Tianhong Stainless Steel
Sino Base Metal Co., Ltd.
Sino East Metal Co., Ltd.
Sunson Industry Group Co., Ltd.
Suntec Industries Company Limited
Sussman Modular House (Wuxi) Co., Ltd.
Suzhou Xiangyuan New Materials Co.
Suzhou Xinchen Precision Industrial Materials Co., Ltd.
Suzhou Xingwen Electronic Commerce
Taiyuan Accu Point Technology, Co. Ltd.
Taiyuan Iron & Steel (TISCO)
Taiyuan Ridetaixing Precision Stainless Steel Incorporated Co., Ltd.
Taizhou Durable Hardware Co., Ltd
Taizhou Zhongda Metal Technology Co.
Tiancheng Stainless Steel Products
Tianjin Chixing International
Tianjin Fulida Supply Co., Ltd.
Tianjin Hongji Stainless Steel Products Co. Ltd.
Tianjin Jiuyu Trade Co., Ltd.
Tianjin New Asia Prosperity
Tianjin Royal Steel Co., Ltd.
Tianjin Taigang Daming Metal Product Co., Ltd.
Tianjin Teda Ganghua Trade Co., Ltd.
Tianjin Tianchengjida Import & Export Trade Co., Ltd.
Tianjin Tiangang Weiye Steel Tube Co.
Tianjin Tianguan Yuantong Stainless Steel
Tiashan Steel
TISCO Stainless Steel (HK) Ltd.
Top Honest Stainless Steel Co., Ltd.
TPCO Yuantong Stainless Steel Ware
Tsingshan Qingyuan
Vigor Stainless Steel Limited
Wan Chang Metal And Mold Co., Ltd.
Wenzhou Kosun Fluid Equipment Co., Ltd.
Wenzhou Zhenda Packing Machine Co.
World Express Freight Co., Ltd.
Wuxi Baochang Metal Products Co., Ltd.
Wuxi Bofu Steel Co., Ltd.
Wuxi City Ge Ming Sheng Steel Trading Co., Ltd.
Wuxi Dayun Stainless Steel Co., Ltd.
Wuxi Fangzhu Precision Materials Co.
Wuxi Grand Tang Metal Co., Ltd.
Wuxi Haoguang Special Co., Ltd.
Wuxi Huamei Science And Technology Co., Ltd.
Wuxi Jiaborui Special Steel Co.
Wuxi Jinyate Steel Co., Ltd.
Wuxi Joyray International Corp.
Wuxi Kaiyi Science And Technology C
Wuxi Maoding Metal Products Co., Ltd.
Wuxi Qinmel Technology Co., Ltd.
Wuxi Shuoyang Stainless Steel Co., Ltd.
Xiamen Lizhou Hardware Spring Co., Ltd.
Xinwen Mining Xinwen
Yantai Putai New Material Technology Co., Ltd.
Yichang Baoneng Trading Co.
Yieh Corp. Ltd.
Yingjin Shanghai Co., Ltd.
Yongjin Enterprise Management Co., Ltd.
Yongjin Metal Technology
Yongkang Shengbo Fitness Equipment Factory
Yuyao Purenovo Stainless Steel Co., Ltd.
Zhangjiagang Pohang Stainless Steel Co., Ltd. (ZPSS)
Zhejiang Aero & Biome Material Comp
Zhejiang Baohong Stainless Steel Co., Ltd.
Zhejiang Baosco New Materials Corp
Zhejiang Ele Mfg Co., Ltd.
Zhejiang Huashun Metals Co., Ltd.
Zhejiang Jaguar Import & Export Co., Ltd.
Zhejiang Jiuli Hi Tech Metal Co., Ltd.
Zhejiang New Vision Import & Export
Zhejiang Trilink Huihuang Co., Ltd.
Zhejiang Yongyin Metal Tech Co.
Zhengzhou Mingtai Industry Co., Ltd.
Zhenjiang Huaxin Import & Export
Zhenshi Group Eastern Special Steel Co., Ltd
Zhongxin Metal Mold Technology Co.
Zun Hua City Transcend Ti-Gold
THE PEOPLE'S REPUBLIC OF CHINA: Wooden Cabinets and Vanities and Components Thereof, C-570-107 | 1/1/23-12/31/23
Anhui Swanch Cabinetry Co., Ltd.
Changyi Zhengheng Woodwork Co., Ltd
Dalian Hualing Wood Co., Ltd.
Dalian Meisen Woodworking Co. Ltd.
Fujian Dushi Wooden Industry Co.
Fujian Leifeng Cabinetry Co., Ltd
Fuzhou CBM Import & Export Co., Ltd
Goldenhome Living Co., Ltd.
Guangzhou Nuolande Import and Export Co., Ltd.
Hong Kong Jian Cheng Trading Co., Limited
Honsoar New Building Material Co., Ltd.
Jiangsu Beichen Wood Co., Ltd
Jiangsu Sunwell Cabinetry Co., Ltd; Shanghai Beautystar Cabinetry Co., Ltd.⁷
Jiangsu Weisen Houseware Co., Ltd.
Jiangsu Xiangsheng Bedtime Furniture Co., Ltd.
Jiang Su Rongxin Wood Industry Co., Ltd.
KM Cabinetry Co, Ltd.
Linyi Kaipu Furniture Co., Ltd.
Morewood Cabinetry Co., Ltd.
Nanjing Kaylang Co., Ltd
Nantong Aershin Cabinet Co., Ltd.
Qingdao Haiyan Drouot Household Co., Ltd.
Qingdao Shousheng Industry Co., Ltd.
Senke Manufacturing Company
Shandong Jinhua Wood Co., Ltd
Shandong Longsen Woods Co., Ltd.Shanghai Zifeng International Trading Co., Ltd.
Sheen Lead International Trading (Shanghai) Co., Ltd.
Shouguang Fushi Wood Co., Ltd.
Taishan Hongxiang Trading Co., Ltd
Taishan Oversea Trading Company Ltd.
Taizhou Overseas Int'l Ltd.
The Ancientree Cabinet Co., Ltd.
Weifang Fuxing Wood Co., Ltd.
Weifang Yuanlin Woodenware Co., Ltd.
Xiamen Adler Cabinetry Co., Ltd.
Xiamen Golden Huanan Imp. & Exp. Co., Ltd
Xuzhou Yihe Wood Co., Ltd.
Yixing Pengjia Cabinetry Co., Ltd.
Yixing Pengjia Technology Co., Ltd.
Zaozhuang New Sharp Import & Export Trading Co., Ltd
Zhangzhou OCA Furniture Co., Ltd
Zhongshan NU Furniture Co., Ltd
Zhoushan For-strong Wood Co., Ltd
THE RUSSIAN FEDERATION: Phosphate Fertilizers, 1/1/23-12/31/23 | C-821-825
Industrial Group Phosphorite LLC
Joint Stock Company Apatit
Suspension Agreements
None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether ADs have been absorbed by an exporter or producer subject to the review if the subject merchandise is sold in the United States through an importer that is affiliated with such exporter or producer. The request must include the name(s) of the exporter or producer for which the inquiry is requested.

⁴ In past reviews, Commerce has treated these companies as a single entity. See, e.g., Certain Activated Carbon from the People's Republic of China: Final Results of Antidumping Duty Administrative Review; and Final Determination of No Shipments; 2020-2021, 87 FR 67671 (November 9, 2022). Commerce also received a review request for Jacobi Carbons, Inc.; however, because Jacobi Carbons, Inc. is a U.S. affiliate of Jacobi Carbons AB., it is not listed in this notice.

⁵ Commerce previously found Assan Aluminyum Sanayi ve Ticaret A.S. and Kibar Holding A.S. to be cross-owned. See Common Alloy Aluminum Sheet from the Republic of Tukey: Final Affirmative Countervailing Duty Determination and Final Affirmative Determination of Critical Circumstances, in Part, 86 FR 13315 (March 8, 2021) (Common Alloy Aluminum Sheet from Türkiye Final CVD Determination).

⁶ Commerce previously found Teknik Aluminyum Sanayi A.S. and TAC Metal Ticaret A.S. to be cross-owned. See Common Alloy Aluminum Sheet from Türkiye Final CVD Determination.

⁷ Commerce previously determined that Jiangsu Sunwell Cabinetry Co., Ltd and Shanghai Beautystar Cabinetry Co., Ltd. are cross-owned. See Wooden Cabinets and Vanities and Components Thereof from the People's Republic of China: Final Results and Partial Rescission of Countervailing Duty Administrative Review; 2022, 88 FR 76732 (November 7, 2023).

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁸ available at https://www.govinfo.gov/content/pkg/FR-2013-07-17/pdf/2013-17045.pdf, prior to submitting factual information in this segment. Note that Commerce has amended certain of its requirements pertaining to the service of documents in 19 CFR 351.303(f).⁹

⁸ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁹ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹⁰ Commerce intends to reject factual submissions in any proceeding segments if the submitting party does not comply with applicable certification requirements.

¹⁰ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹¹ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹¹ See 19 CFR 351.302.

These initiations and this notice are in accordance with section 751(a) of the Act (19 U.S.C. 1675(a)) and 19 CFR 351.221(c)(1)(i).

Dated: June 6, 2024.
James Maeder,
Deputy Assistant Secretary for Antidumping and Countervailing Duty Operations.

[FR Doc. 2024-12841 Filed 6-11-24; 8:45 am]

BILLING CODE 3510-DS-P